DEPARTMENT OF ENERGY

Energy Information Administration

Proposed Agency Information Collection

AGENCY: U.S. Energy Information Administration (EIA), Department of Energy.

ACTION: Agency information collection activities: Proposed collection; notice and request for comments.

SUMMARY: EIA invites public comment on the proposed collection of information, Form EIA-63C, Densified Biomass Fuel Report, which EIA is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

When submitting comments regarding the reporting burden or costs of reporting this information, describe in detail any start-up costs you expect to incur such as new software, processes, or training. If you claim that you may incur start-up costs in reporting this requested information, describe how your current record keeping practices differ from the information to be collected on the proposed Form EIA-63C.

DATES: Comments regarding this proposed information collection must be received on or March 2, 2015. If you anticipate difficulty in submitting comments within that period, contact the person listed in ADDRESSES as soon as possible.

ADDRESSES: Use email address: EIA-63C@eia.gov to send comments electronically and to ensure receipt of the comments by the due date. The postal mailing address for sending written comments is Attn: Rebecca Peterson, U.S. Department of Energy, U.S. Energy Information Administration, Mail Stop EI-23, Forrestal Building, 1000 Independence Avenue SW., Washington, DC 20585.

FOR FURTHER INFORMATION CONTACT: Requests for additional information should be directed to Rebecca Peterson at the email address Rebecca.Peterson@eia.gov. Ms. Peterson may also be contacted by telephone on (202) 586-4509. The draft form and instructions are available on the EIA Web site at http://www.eia.gov/survey/form/eia_63c/proposed/.

SUPPLEMENTARY INFORMATION: This information collection request contains:

(1) OMB No.: New;

(2) Information Collection Request Title: Form EIA-63C, Densified Biomass Fuel Report;

(3) Type of Request: New;

(4) Purpose: The consumption of densified biomass fuel, a renewable energy source, is increasing in the United States, particularly in the northeast where a number of states are conducting successful incentive programs for switching from fuel oil to biomass for heating. Production of densified biomass fuel for export is also rapidly growing, particularly in the southeastern United States, driven by demand from the European community where greenhouse gas reduction initiatives are driving conversion of coal to biomass for electric power generation. The survey will gather information on pellet fuel and other densified biomass fuel production, sales, and inventory levels by operators of pellet fuel manufacturing facilities in the United States. The data collected will be used to estimate densified biomass fuel consumption in the United States as well as production, sales, and inventory at state, regional, and national levels. A summary of the data will be published on the EIA Web site and in various EIA publications, including the Monthly Energy Review.

(5) Annual Estimated Number of Respondents: We estimate the number of respondents to be approximately 150;

(6) Annual Estimated Number of Total Responses: 1,800 (150 respondents × 12 months);

(7) Annual Estimated Number of Burden Hours: 1,800 (150 respondents × 12 months × 1 hour for each response);

(8) Annual Estimated Reporting and Recordkeeping Cost Burden: EIA estimates that there are no capital and start-up costs associated with this data collection. The information is maintained in the normal course of business. The cost of burden hours to the respondents is estimated to be $124,794 (1800 burden hours times $69.33 per hour). Therefore, other than the cost of burden hours, EIA estimates that there are no additional costs for generating, maintaining and providing the information.

Statutory Authority: Section 13(b) of the Federal Energy Administration Act of 1974, Pub. L. 93-275, codified as 15 U.S.C. 772(b).

Issued in Washington, DC, on December 23, 2014.
Nanda Srinivasan,
Director, Office of Survey Development and Statistical Integration, U.S. Energy Information Administration.

[FR Doc. 2014-30708 Filed 12-30-14; 8:45 am]

BILLING CODE 6450-01-P